DEPARTMENT OF ENERGY

Federal Energy Regulatory Commission

Combined Notice of Filings #1

Take notice that the Commission received the following electric rate filings:

Docket Numbers: ER11-3984-000.

Applicants: City of Riverside, California.

Description: Compliance Report to be effective N/A.

Filed Date: 5/10/13.

Accession Number: 20130510-5145.

Comments Due: 5 p.m. ET 5/31/13.

Docket Numbers: ER12-2068-003; ER10-2460-005; ER10-2461-005; ER12-682-006; ER11-2201-009; ER13-17-003; ER12-1311-005; ER10-2466-006; ER11-4029-005; ER10-2463-005.

Applicants: Blue Sky East, LLC, Canandaigua Power Partners I, LLC, Canandaigua Power Partners II, LLC, Erie Wind, LLC, Evergreen Wind Power, LLC, Evergreen Wind Power III, LLC, Niagara Wind Power, LLC, Stetson Holdings, LLC, Stetson Wind II, LLC, Vermont Wind, LLC.

Description: Supplement to April 29, 2013 Notice of Change in Status of Blue Sky East, LLC, et al.

Filed Date: 5/9/13.

Accession Number: 20130509-5111.

Comments Due: 5 p.m. ET 5/30/13.

Docket Numbers: ER13-1447-000.

Applicants: Public Service Company of New Mexico.

Description: OATT Order 1000 Compliance Filing to be effective 10/1/2013.

Filed Date: 5/10/13.

Accession Number: 20130510-5026.

Comments Due: 5 p.m. ET 6/24/13.

Docket Numbers: ER13-1448-000.

Applicants: NorthWestern Corporation.

Description: OATT Order No. 1000 Interregional Compliance Filing—MT to be effective 10/1/2013.

Filed Date: 5/10/13.

Accession Number: 20130510-5063.

Comments Due: 5 p.m. ET 6/24/13.

Docket Numbers: ER13-1450-000.

Applicants: Arizona Public Service Company.

Description: OATT Order No. 1000 Interregional Compliance Filing to be effective 12/31/9998.

Filed Date: 5/10/13.

Accession Number: 20130510-5089.

Comments Due: 5 p.m. ET 6/24/13.

Docket Numbers: ER13-1457-000.

Applicants: Deseret Generation & Transmission Co-operative.

Description: OATT Order No. 1000 Interregional Compliance Filing to be effective 10/1/2013.

Filed Date: 5/10/13.

Accession Number: 20130510-5101.

Comments Due: 5 p.m. ET 6/24/13.

Docket Numbers: ER13-1461-000.

Applicants: Tucson Electric Power Company.

Description: OATT Order No. 1000 Interregional Compliance Filing to be effective 12/31/9998.

Filed Date: 5/10/13.

Accession Number: 20130510-5125.

Comments Due: 5 p.m. ET 6/24/13.

Docket Numbers: ER13-1462-000.

Applicants: UNS Electric, Inc.

Description: OATT Order No. 1000 Interregional Compliance Filing to be effective 12/31/9998.

Filed Date: 5/10/13.

Accession Number: 20130510-5127.

Comments Due: 5 p.m. ET 6/24/13.

Docket Numbers: ER13-1463-000.

Applicants: Portland General Electric Company.

Description: OATT Order No. 1000 Interregional Compliance Filing to be effective 10/1/2013.

Filed Date: 5/10/13.

Accession Number: 20130510-5128.

Comments Due: 5 p.m. ET 6/24/13.

Docket Numbers: ER13-1465-000.

Applicants: El Paso Electric Company.

Description: OATT Order No. 1000 Compliance Filing—Interregional to be effective 12/31/9998.

Filed Date: 5/10/13.

Accession Number: 20130510-5135.

Comments Due: 5 p.m. ET 6/24/13.

Docket Numbers: ER13-1466-000.

Applicants: NV Energy, Inc.

Description: OATT Order No. 1000 Interregional Compliance Filing to be effective 12/31/9998.

Filed Date: 5/10/13.

Accession Number: 20130510-5141.

Comments Due: 5 p.m. ET 6/24/13.

Docket Numbers: ER13-1467-000.

Applicants: Idaho Power Company.

Description: OATT Order No. 1000 Interregional Compliance Filing to be effective 10/1/2013.

Filed Date: 5/10/13.

Accession Number: 20130510-5143.

Comments Due: 5 p.m. ET 6/24/13.

Docket Numbers: ER13-1468-000.

Applicants: Massachusetts Electric Company.

Description: Interconnection Agreement Between MECo and IPS Inc. for Granby Landfill to be effective 7/10/2013.

Filed Date: 5/10/13.

Accession Number: 20130510-5144.

Comments Due: 5 p.m. ET 5/31/13.

Docket Numbers: ER13-1469-000.

Applicants: Public Service Company of Colorado.

Description: 2013-05-10-OATT Order No. 1000 Compliance Filing to be effective 12/31/9998.

Filed Date: 5/10/13.

Accession Number: 20130510-5155.

Comments Due: 5 p.m. ET 6/24/13.

Docket Numbers: ER13-1470-000.

Applicants: California Independent System Operator Corporation.

Description: 2013-05-10 Order 1000 Interregional Compliance to be effective 10/1/2013.

Filed Date: 5/10/13.

Accession Number: 20130510-5158.

Comments Due: 5 p.m. ET 6/24/13.

Docket Numbers: ER13-1471-000.

Applicants: Cheyenne Light, Fuel and Power Company.

Description: Order No. 1000 Compliance Filing to be effective 10/1/2013.

Filed Date: 5/10/13.

Accession Number: 20130510-5159.

Comments Due: 5 p.m. ET 6/24/13.

Docket Numbers: ER13-1472-000.

Applicants: Black Hills Power, Inc.

Description: Order No. 1000 Interregional Compliance Filing to be effective 10/1/2013.

Filed Date: 5/10/13.

Accession Number: 20130510-5160.

Comments Due: 5 p.m. ET 6/24/13.

Docket Numbers: ER13-1473-000.

Applicants: PacifiCorp.

Description: OATT Order 1000 Interregional Compliance Filing to be effective 10/1/2013.

Filed Date: 5/10/13.

Accession Number: 20130510-5161.

Comments Due: 5 p.m. ET 6/24/13.

Docket Numbers: ER13-1474-000.

Applicants: Black Hills/Colorado Electric Utility Company, LP.

Description: Order No. 1000 Compliance Filing to be effective 10/1/2013.

Filed Date: 5/10/13.

Accession Number: 20130510-5162.

Comments Due: 5 p.m. ET 6/24/13.

Docket Numbers: ER13-1476-000.

Applicants: The Connecticut Light and Power Company.

Description: Notice of Cancellation of Watertown Renewable Power, LLC Amended and Restated Preliminary Design Services Agreement.

Filed Date: 5/10/13.

Accession Number: 20130510-5180.

Comments Due: 5 p.m. ET 5/31/13.

Docket Numbers: ER13-1477-000.

Applicants: Public Service Company of New Hampshire.

Description: Public Service Company of New Hampshire submits Notice of Cancellation of Noble Granite Reliable Wind Park Amended and Restated Design, Engineering and Procurement Agreement.

Filed Date: 5/10/13.

Accession Number: 20130510-5181.

Comments Due: 5 p.m. ET 5/31/13.

Docket Numbers: ER13-1478-000.

Applicants: The Connecticut Light and Power Company.

Description: The Connecticut Light and Power Company submit Notice of Cancellation of GenConn Middletown LLC Engineering Agreement for Switchyard Design Basis Manual.

Filed Date: 5/10/13.

Accession Number: 20130510-5182.

Comments Due: 5 p.m. ET 5/31/13.

Docket Numbers: ER13-1479-000.

Applicants: Public Service Company of New Hampshire.

Description: Public Service Company of New Hampshire submits Notice of Cancellation of Indeck Energy-Alexandria, LLC Design, Engineering and Procurement Agreement.

Filed Date: 5/10/13.

Accession Number: 20130510-5183.

Comments Due: 5 p.m. ET 5/31/13.

Docket Numbers: ER13-1480-000.

Applicants: The Connecticut Light and Power Company.

Description: The Connecticut Light and Power Company submits Notice of Cancellation of Waterbury Generation, LLC Design, Engineering and Procurement Agreement for Baldwin Substation Improvements.

Filed Date: 5/10/13.

Accession Number: 20130510-5184.

Comments Due: 5 p.m. ET 5/31/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 13, 2013.
Nathaniel J. Davis, Sr.,
Deputy Secretary.

[FR Doc. 2013-11901 Filed 5-17-13; 8:45 am]

BILLING CODE 6717-01-P